DEPARTMENT OF COMMERCE

Foreign-Trade Zones Board

[B-6-2026]

Foreign-Trade Zone (FTZ) 39, Notification of Proposed Production Activity; Qorvo US, Inc.; (Semiconductor Wafers, Modules, and Chips); Richardson, Texas

Qorvo US, Inc. submitted a notification of proposed production activity to the FTZ Board (the Board) for its facility in Richardson, Texas, within FTZ 39. The notification conforming to the requirements of the Board's regulations (15 CFR 400.22) was received on January 15, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: wafers (gallium nitride; gallium arsenide; unmounted transistor; gallium arsenide amplifier; gallium nitride amplifier); telecommunications inductors; ferrite beads; modules (integrated circuit switch; amplifier; microwave amplifier); bias controllers; thermal spreaders; aluminum capacitors; capacitor chips (ceramic single layer; ceramic multi-layer; ferrite); resistors (two terminal fixed surface mounted; carbon film; fixed surface mounted chip); printed circuit boards; printed circuit board connectors; diodes; discrete transistors; integrated circuit-based frequency and signal control units; and, integrated circuit lead frame packages (duty rate ranges from duty-free to 3.7%).

The proposed foreign-status materials/components include: crystals (iodine resublimed; quartz piezoelectric); solder (pure tin; lead-tin); wafers (4 inch or 6 inch gallium nitride; 6 inch gallium arsenide; 6 inch doped gallium arsenide; 4 inch or 6 inch doped polycrystalline silicon; 4 inch or 6 inch dope silicon carbide; 4 inch or 6 inch unmounted transistor; 6 inch or 8 inch bulk acoustic wave filter; 6 inch surface acoustic wave filter; 6 inch pseudomorphic high electron mobility transistor amplifier; 4 inch or 6 inch heterojunction bipolar transistor amplifier; 6 inch high electron mobility transistor amplifier; 6 inch bipolar high electron mobility transistor amplifier; 6 inch gallium arsenide amplifier; 4 inch or 6 inch gallium nitride amplifier; 6 inch or 8 inch silicon carrier); 1-methyl-2-pyrrolidone-99%; solutions (synthetic cleaning; dilute of acrylic copolymer/ammonium hydroxide; copper sulfate); solder fluxes; compounds (epoxy resin; epoxy resin molding for encapsulation of semiconductor devices); thermosetting conductive die attach adhesives; tapes (low static; ultraviolet; carrier; cover); plastic wafer trays; semiconductor tape reels; pre-form pastes for gold-to-gold bonding; wires (gold; precut copper; insulated); copper laminates; pellets (nickel; titanium); aluminum scandium alloy ingots; aluminum heat sinks; wafer frames; targets (aluminum silicon; tungsten physical vapor disposition; aluminum scandium; germanium; tungsten; aluminum copper); solder preforms; telecommunications inductors; ferrite beads; switches (discrete; limit); circuits (antenna switch integrated; up/down converter; upconverter); switch dies; amplifiers (power with duplexer integrated circuits; spatium power; balanced X band gallium nitride low noise; feedback; heterojunction bipolar transistor broadband feedback; monolithic microwave integrated circuit; variable gain; driver); bias controllers; thermal spreaders; aluminum capacitors; capacitor chips (ceramic single layer; ceramic multi-layer; ferrite); resistors (two terminal surface mounted fixed; carbon film; fixed surface mounted chip; axial lead); lids (integrated circuit packaged; integrated circuit); circuit boards (multi-layer printed; ceramic-based printed; semiconductor testing device); connectors (coaxial; terminal; printed circuit board); diodes (Zener; signal; rectifier; light-emitting); transistors (packaged; discrete; power); filters (high pass; low pass); complementary metal-oxide-semiconductor heterojunction bipolar transistor amplifier dies; solid state power amplifier drivers; radio frequency transceivers; attenuators; digital attenuators; doublers (power; frequency); heat sinks; beamformers; phase shifters; microwave amplifier modules; and, semiconductor device test boards (duty rate ranges from duty-free to 6.1%).

The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41).

Public comment is invited from interested parties. Submissions shall be addressed to the Board's Executive Secretary and sent to: ftz@trade.gov. The closing period for their receipt is March 3, 2026.

A copy of the notification will be available for public inspection in the “Online FTZ Information System” section of the Board's website.

For further information, contact Juanita Chen at juanita.chen@trade.gov.

Dated: January 16, 2026.
Elizabeth Whiteman,
Executive Secretary.

[FR Doc. 2026-01112 Filed 1-21-26; 8:45 am]

BILLING CODE 3510-DS-P